FEDERAL RESERVE SYSTEM

Agency Information Collection Activities: Notice; Correction

AGENCY: Board of Governors of the Federal Reserve System

SUMMARY: On February 19, 2016, the Board published a notice of final approval of proposed information collections by the Board of Governors of the Federal Reserve System (Board) under OMB delegated authority. This document corrects the effective dates in the notice.

FOR FURTHER INFORMATION CONTACT: Federal Reserve Board Clearance Officer —Nuha Elmaghrabi—Office of the Chief Data Officer, Board of Governors of the Federal Reserve System, Washington, DC 20551 (202) 452-3829. Telecommunications Device for the Deaf (TDD) users may contact (202) 263-4869, Board of Governors of the Federal Reserve System, Washington, DC 20551.

Correction: The Board published in the Federal Register of February 19, 2016 (81 FR 8491), a notice of final approval of proposed revisions to the Semiannual Report of Derivatives Activity (FR 2436) and the Central Bank Survey of Foreign Exchange and Derivate Market Activity (FR 3036). The document announced incorrect effective dates for the two collections.

Under the effective date for the Semiannual Report of Derivatives Activity correct the Effective Date to read: “Effective Date: June 30, 2016.”

Under the effective date for the Central Bank Survey of Foreign Exchange and Derivative Market Activity correct the Effective Date to read: “Effective Date: April 30, 2016.”

Board of Governors of the Federal Reserve System, May 6, 2016.
Robert deV. Frierson,
Secretary of the Board.

[FR Doc. 2016-11203 Filed 5-11-16; 8:45 am]

BILLING CODE 6210-01-P